SOCIAL SECURITY ADMINISTRATION

Agency Information Collection Activities: Proposed Request and Comment Request

The Social Security Administration (SSA) publishes a list of information collection packages that will require clearance by the Office of Management and Budget (OMB) in compliance with P.L. 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB), Office of Management and Budget, Attn: Desk Officer for SSA, New Executive Building, Room 10235, 725 17th St., NW., Washington, DC 20503, Fax: 202-395-6974.

(SSA), Social Security Administration, DCFAM, Attn: Reports Clearance Officer, 1338 Annex Building, 6401 Security Blvd., Baltimore, MD 21235, Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Questionnaire About Employment or Self-Employment Outside the United States—20 CFR 404.401(b)(1), 404.415, and 404.417—0960-0050. The information collected on form SSA-7163 is used by SSA to determine whether work performed by beneficiaries outside the United States (U.S.) is cause for deductions from their monthly benefits; to determine which of two work tests, foreign or regular, is applicable; and to determine the months, if any, for which deductions should be imposed. The respondents are beneficiaries living and working outside the U.S.

Type of Request: Extension of an OMB-approved information collection.

Number of Respondents: 20,000.

Frequency of Response: 1.

Average Burden Per Response: 12 minutes.

Estimated Annual Burden: 4,000 hours.

2. Beneficiary Interview and Auditor's Observation Form—0960-0630. The Beneficiary Interview and Auditor's Observations form, form SSA-322, collects information that will be used by the SSA's Office of Inspector General to interview beneficiaries and/or their caregivers and to determine whether representative payees are complying with their duties and responsibilities. Respondents to this collection are randomly selected Supplemental Security Income (SSI) recipients and Social Security beneficiaries who have representative payees.

Type of Request: Extension of an OMB-approved information collection.

Number of Respondents: 200.

Frequency of Response: 1.

Average Burden Per Response: 15 minutes.

Estimated Annual Burden: 50 hours.

3. Site Review Questionnaire for Volume Payees (SSA-637); Site Review Questionnaire for Fee-for-Service Payees (SSA-638); Site Review Beneficiary Interview Form (SSA-639)—20 CFR 404.2035, 404.2065, 416.665, 416.701, and 416.708—0960-0633. In situations where a Social Security beneficiary is incompetent or physically unable to take care of his or her own affairs, SSA may make payment of Social Security and SSI benefits to a relative, other person, or organization when the best interest of the beneficiary will be served. In certain situations, SSA conducts site reviews in order to ensure that payees are carrying out their responsibilities in accordance with representative payment policies and procedures. This enables SSA to identify poor payee performance, to uncover misuse, and to initiate corrective action. Triennial site reviews are conducted for fee-for-service payees and all volume payees (i.e., organizations serving 100 or more beneficiaries and individuals serving 20 or more beneficiaries). The reviews include a face-to-face meeting with the payee (and appropriate staff), examination/verification of a sample of beneficiary records and supporting documentation, and usually include beneficiary (if competent adult) or custodian (if different from payee) interviews. Forms SSA-637, SSA-638, and SSA-639 are used to record the information collected during these interviews. The respondents are certain representative payees and competent Social Security beneficiaries.

Type of Request: Extension of an OMB-approved collection.

Type of respondent | Number of respondents | Frequency of response | Average burden per response minutes | Estimated annual burden hours
Volume and Fee-for-Service Payees | 680 | 1 | 60 | 680
Beneficiaries | 2,040 | 1 | 10 | 340
Total | 2,720 |  |  | 1,020

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Representative Payee Report of Benefits and Dedicated Account—20 CFR 416.546, 416.635, 416.640, and 416.665—0960-0576. Form SSA-6233 is used to ensure that the representative payee is using the benefits received for the beneficiary's current maintenance and personal needs and that the expenditures of funds from the dedicated account are in compliance with the law. The respondents are individuals and organizational representative payees who are required by law to establish a separate (“dedicated”) account in a financial institution for certain past-due SSI benefits.

Type of Request: Extension of an OMB-approved information collection.

Number of Respondents: 30,000.

Frequency of Response: 1.

Average Burden Per Response: 20 minutes.

Estimated Annual Burden: 10,000 hours.

2. Employment Relationship Questionnaire—20 CFR 404.1007—0960-0040. SSA uses the information collected on Form SSA-7160 to determine whether the Social Security number-holder is self-employed or is an employee. The respondents are applicants for Social Security benefits and/or their employers.

Type of Request: Extension of an OMB-approved information collection.

Number of Respondents: 47,500.

Frequency of Response: 1.

Average Burden Per Response: 25 minutes.

Estimated Annual Burden: 19,792 hours.

3. Continuation of Full Benefit Standard for Persons Institutionalized—20 CFR 416.212—0960-0516. SSA is required by law to establish procedures for collecting information on whether an SSI recipient who becomes institutionalized (e.g. hospital, nursing home) is eligible for continued benefits, based on the full federal rate, if a physician certifies that he expects the period of medical confinement to last no more than 90 days. The individual, or someone acting on his behalf, must demonstrate that he needs to pay some or all of the expenses of maintaining the home to which he expects to return. The respondents are applicants for SSI benefits.

Type of Request: Extension of an OMB-approved information collection.

Number of Respondents: 60,000.

Frequency of Response: 1.

Average Burden Per Response: 5 minutes.

Estimated Average Burden: 5,000 hours.

Dated: December 8, 2003.
Elizabeth A. Davidson,
Reports Clearance Officer, Social Security Administration.

[FR Doc. 03-30825 Filed 12-12-03; 8:45 am]

BILLING CODE 4191-02-P